DEPARTMENT OF AGRICULTURE

Privacy Act of 1974: New System of Records

AGENCY: Department of Agriculture (USDA).

ACTION: Notice of a new system of records.

SUMMARY: USDA proposes to add a new system of records to its inventory of records systems subject to the Privacy Act of 1974 (5 U.S.C. 552a), as amended. This action is necessary to meet the requirements of the Privacy Act to publish in the Federal Register notice of the existence and character of records systems maintained by the agency (5 U.S.C. 552a(e)(4)).

DATES: This notice will be adopted without further publication in the Federal Register on May 17, 2002, unless modified by a subsequent notice to incorporate comments received from the public. Although the Privacy Act requires only that the portion of the system that describes the “routine uses” of the system be published for comment, USDA invites comment on all portions of this notice. Comments must be received by the contact person listed below on or before May 2, 2002.

ADDRESSES: Send written comments to the Department of Agriculture, ATTN: Marge Adams, Office of Human Resources Management, 1400 Independence Ave, SW, Room 3027-S, Washington, DC 20250-9606.

FOR FURTHER INFORMATION CONTACT: Marge Adams, 202-720-3286.

SUPPLEMENTARY INFORMATION: Pursuant to the Privacy Act, 5 U.S.C. 552a, USDA is creating a new system of records to be maintained by either an external contractor such as the Federal Employee and Education Assistance Fund and/or mission areas/agencies/staff offices to support the USDA Child Care Tuition Assistance Program, a program to increase the affordability of licensed child care for lower income Federal employees, as provided for in Pub. L. 107-67, section 630. The information requested of these employees is necessary to establish and verify USDA employees' eligibility for child care tuition assistance and the amounts of the tuition assistance in order for USDA to provide monetary tuition assistance to its employees. It will also be used to collect information from the employee's child care provider(s) for verification purposes; e.g., that the provider is licensed. Collection of data will be by tuition assistance application forms submitted by employees.

The purpose of the Child Care Tuition Assistance Program is to make child care more affordable for lower income Federal employees through the use of agency appropriated funds. This program will afford employees the opportunity to place their children in a licensed child day care programs regulated by State or local authorities or sponsored by the Federal government.

A “Report on New System,” required by 5 U.S.C. 552a(r), as implemented by OMB Circular A-130, was sent to the Chairman, Committee on Governmental Affairs, United States Senate, the Chairman, Committee on Government Reform and Oversight, House of Representatives, and the Administrator, Office of Information and Regulatory Affairs, Office of Management and Budget on March 27, 2002.

Signed at Washington, DC on March 22, 2002.
Ann Veneman,
Secretary of Agriculture.

USDA/OHRM-5

System Name:

USDA Child Care Tuition Assistance Records System, USDA/OHRM-5.

System Location:

Paper and electronic records may be maintained by an external contractor such as the Federal Employee and Education Assistance Fund, Suite 200, 8441 West Bowles Avenue, Littleton, CO 80123-9501; and/or mission areas/agencies/staff offices.

Categories of Individuals Covered by the System:

Employees of the Department of Agriculture who voluntarily apply for child care tuition assistance, their spouses, and their children who are enrolled in a licensed child day care program.

Child-care providers of these employees.

Categories of Records in the System:

Application forms (OPM-1046 will be used) for child day care assistance containing personal information, including the employee (parent) name, Social Security Number, pay grade, home and work numbers, addresses, and telephone numbers; total family income; spouse's name and Social Security Number; spouse's employment information; names of children on whose behalf the employee (parent) is applying for tuition assistance; each child's date of birth; information on child care providers used (including name, address, provider license number and State where issued, tuition cost, and provider tax identification number), amount of any other subsidies received; and copies of employees' and spouses' individual income tax returns for verification purposes. Other records may include the child's Social Security Number, weekly expenses, pay statements, records relating to direct deposits, and verification of qualification and administration for child care assistance.

Authority for Maintenance of the System:

Pub. L. 107-67, section 630.

Routine Uses of Records Maintained in the System, Including Categories of Users and the Purposes of Such Uses:

a. Relevant records relating to an individual may be disclosed to a congressional office in response to an inquiry from the Congressional office made at the request of that individual.

b. Relevant information may be disclosed to the Office of the President for responding to an individual.

c. Relevant records may be disclosed to representatives of the National Archives and Records Administration who are conducting records management inspections.

d. Records may be disclosed in response to a request for discovery or for the appearance of a witness, to the extent that what is disclosed is relevant to the subject matter involved in a pending judicial or administrative proceeding.

e. Relevant records may be disclosed to another Federal agency, to a court, or a party in litigation before a court or in an administrative proceeding being conducted by a Federal agency, when the Government is a party to the judicial or administrative proceeding. In those cases where the Government is not a party to the proceeding, relevant records may be disclosed if a subpoena has been signed by a judge of competent jurisdiction.

f. Records may be disclosed to the Department of Justice, or in a proceeding before a court, adjudicative body, or other administrative body before which USDA is authorized to appear, when:

(1) USDA, or any component thereof; or

(2) Any employee of USDA in his or her official capacity; or

(3) Any employee of USDA in his or her individual capacity where the Department of Justice or USDA has agreed to represent the employee; or

(4) The United States, when USDA determines that litigation is likely to affect USDA or any of its components; is a party to litigation or has an interest in such litigation, and the use of such records by the Department of Justice or USDA is deemed by USDA to be relevant and necessary to the litigation provided, however, that the disclosure is compatible with the purpose for which records were collected.

g. In the event that material in this system indicates a violation of law, whether civil, criminal, or regulatory in nature, and whether arising by general statute, or by regulation, rule, or order issued pursuant thereto, the relevant records may be disclosed to the appropriate agency, whether Federal, State, local, or foreign, charged with the responsibility of investigating or prosecuting such violation or charged with enforcing or implementing the statute, rule, regulation, or order, issued pursuant thereto.

h. Relevant records may be disclosed to respond to a Federal agency's request made in connection with the hiring or retention of an employee, the letting of a contract or issuance of a grant, license or other benefit by the requesting agency, but only to the extent that the information disclosed is relevant and necessary to the requesting agency's decision on the matter.

i. Relevant records may be disclosed to the Office of Personnel Management or the General Accounting Office when the information is required for evaluation of the subsidy program.

j. Records may be disclosed to a contractor, expert, consultant, grantee, or volunteer performing or working on a contract, service, grant, cooperative agreement, or job for the Federal Government requiring the use of these records.

k. Relevant records may be disclosed to child care providers to verify a covered child's dates of attendance at the provider's facility.

l. Records may be disclosed by USDA in the production of summary descriptive statistics and analytical studies in support of the function for which the records are collected and maintained, or for related workforce studies. While published studies do not contain individual identifiers, in some instances the selection of elements of data included in the study may be structured in such a way as to make the data individually identifiable by inference.

m. Records may be disclosed to officials of the Merit Systems Protection Board of the Office of the Special Counsel, when requested in connection with appeals, special studies of the civil service and other merit systems, review of USDA rules and regulations, investigations of alleged or possible prohibited personnel practices, and such other functions, e.g., as promulgated in 5 U.S.C. 1205 and 1206, or as may be authorized by law.

n. Records may be disclosed to the Equal Employment Opportunity Commission when requested in connection with investigations into alleged or possible discrimination practices in the Federal sector, compliance by Federal agencies with the Uniform Guidelines on Employee Selection Procedures or other functions vested in the Commission and to otherwise ensure compliance with the provisions of 5 U.S.C. 7201.

o. Records may be disclosed to the Federal Labor Relations Authority or its General Counsel when requested in connection with investigations of allegations of unfair labor practices or matters before the Federal Service Impasses Panel.

p. Relevant records may be disclosed to the Internal Revenue Service in connection with tax audit and tax record administration, as well as suspected tax fraud.

Purpose(s):

To establish and verify USDA employees' eligibility for child care tuition assistance in order for USDA to provide monetary tuition assistance to its employees.

Policies and Practices for Storing, Retrieving, Accessing, Retaining, and Disposing of Records in the System:

Storage:

Information may be collected on paper or electronically and may be stored as paper forms or on computers.

Retrievability:

By name; may also be cross-referenced to Social Security Number.

Safeguards:

When not in use by an authorized person, paper records are stored in lockable file cabinets or secured rooms. Electronic records are protected by the use of passwords.

Retention and Disposal:

Records disposition authority is being requested from the National Archives and Records Administration. Records will be retained until appropriate disposition authority is obtained, and records will then be disposed of in accordance with the authority granted. Records Administration (NARA) guidelines.

System Manager(s) and Address:

USDA's system manager will be the Director, Office of Human Resources Management, Department of Agriculture, 1400 Independence Ave, SW., Washington, DC 20250-9606, with Mission Areas/Agencies/Staff Offices maintaining their own records.

Notification Procedure:

Individuals may submit a request on whether a system contains records about them to the system manager indicated. Individuals must furnish the following for their records to be located and identified:

Full name.

Social Security Number.

Record Access Procedure:

Individuals wishing to request access to records about them should contact the system manager indicated. Individuals must provide the following information for their records to be located and identified:

Full name.

Social Security Number.

Individuals requesting access must also follow the USDA's Privacy Act regulations regarding verification of identity and access to records (7 CFR part 1, subpart G).

Contesting Record Procedure:

Individuals wishing to request amendment of records about them should contact the system manager indicated. Individuals must furnish the following information for their records to be located and identified:

Full name.

Social Security Number.

Individuals requesting amendment must also follow the USDA's Privacy Act regulations regarding verification of identity and amendment of records (7 CFR part 1, subpart G).

Record Source Categories:

Information is provided by USDA employees who apply for child care tuition assistance. Furnishing of the information is voluntary.

[FR Doc. 02-7860 Filed 4-1-02; 8:45 am]

BILLING CODE 3410-96-P